NATIONAL FOUNDATION ON THE ARTS AND HUMANITIES

Delegation of Authority

AGENCY: National Endowment for the Arts.

ACTION: Notice.

SUMMARY: Notice is hereby given of the order of succession in the absence of the Chairman for the National Endowment for the Arts.

DATES: Upon publication.

FOR FURTHER INFORMATION CONTACT: Craig McCord, Director of Human Resources, National Endowment for the Arts, 1100 Pennsylvania Avenue, NW., Room 627, Washington, DC 20506, (202) 682-5473.

In the absence of the Chairman, those listed below are designated to exercise the duties of Chairman:

Senior Deputy Chairman, or if the incumbent is unavailable,

Deputy Chairman for Management and Budget, or if the incumbent is unavailable,

Deputy Chairman for Grants and Awards, or if the incumbent is unavailable,

Deputy Chairman for State, Regions, and Local Arts Agencies, or if the incumbent is unavailable,

Director of the Office of Government Affairs, or if the incumbent is unavailable.

This delegation will remain in effect until revoked or otherwise superseded.

Kathleen Edwards,
Director of Administrative Services, National Endowment for the Arts.

[FR Doc. E9-20426 Filed 8-24-09; 8:45 am]

BILLING CODE 7537-01-P